DEPARTMENT OF AGRICULTURE

Food and Nutrition Service

Agency Information Collection Activities: Proposed Collection; Comment Request—WIC Farmers' Market Nutrition Program (FMNP) Forms and Regulations

AGENCY: Food and Nutrition Service (FNS), USDA.

ACTION: Notice.

SUMMARY: In accordance with the Paperwork Reduction Act of 1995, this notice announces the intention of FNS to request revisions to currently approved information collections in the WIC Farmers' Market Nutrition Program Financial Report (Form FNS-683); WIC Farmers' Market Nutrition Program Recipient Report (Form FNS-203); and WIC Farmers' Market Nutrition Program Regulations.

DATES: Written comments must be received by May 16, 2011.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

FNS invites interested persons to submit comments on this notice. Comments may be submitted by any of the following methods:

• Mail: Send comments to Anne Bartholomew, Chief, Policy Branch, Supplemental Food Programs Division, Food and Nutrition Service, U.S. Department of Agriculture, 3101 Park Center Drive, Room 520, Alexandria, Virginia 22302.

• Federal eRulemaking Portal: Go to http://www.regulations.gov. Follow the online instructions for submitting comments.

In all cases, please label your comments as “Proposed Collection of Information: WIC Farmers' Market Nutrition Program.”

All written comments will be open for public inspection at the office of the Food and Nutrition Service during regular business hours (8:30 a.m., to 5 p.m. Monday through Friday) at 3101 Park Center Drive, Room 520, Alexandria, Virginia 22302.

All responses to this notice will be summarized and included in the request for OMB approval, and will become a matter of public record.

FOR FURTHER INFORMATION CONTACT: Requests for additional information or copies of the information collection forms and instructions should be directed to: Anne Bartholomew at Anne.Bartholome@fns.usda.gov or (703) 305-2746.

SUPPLEMENTARY INFORMATION:

Title: The WIC Farmers' Market Nutrition Program (FMNP) Forms and Regulations.

OMB Number: 0584-0447.

Form Numbers: Form FNS-683 and FNS-203.

Expiration Date: July 31, 2011.

Type of Request: Revision of a Currently Approved Information Collection.

Abstract: Section 17(m)(8) of the Child Nutrition Act of 1966, 42 U.S.C. section 1786(m)(8), and the WIC Farmers' Market Nutrition Program (FMNP) regulations at 7 CFR 248 require that certain Program-related information and financial data be compiled and submitted to FNS and that full and complete records concerning the FMNP operations are maintained. Each State agency administering the FMNP is required to use FNS-683 and FNS-203 to report financial and participation data. The information gathered is used for funding and program management decisions. The currently approved reporting and recordkeeping requirements for the FMNP are based on 46 State agencies administering the program.

The most recent annual report shows that 45 State agencies administer the program, including the authorization of 3,635 farmers' markets, 17,543 farmers, and 2,662 roadside stands authorized to accept FMNP coupons (for a total of 23,840 authorized entities). However, FNS estimates that one third of authorized farmers or farmer's markets complete an agreement every year, thereby estimating the number of agreements submitted per year at 7,947. This represents an increase in the number of authorized entities from the currently approved reporting and recordkeeping requirements for the FMNP. Therefore FNS is requesting a revision to this information collection burden due to an increase in the number of authorized entities submitting farmer's market agreements and authorizations. The total burden is being increased from 20,221 to 23,917 hours.

Affected Public: 45 State Agencies; 7,947 Farmers (Farmers' Market and Roadside Stand).

Estimated Number of Respondents: 7,992.

Estimated Number of Response per Respondent: 2.31794.

Estimated Number of Total Annual Response: 18,525.

Estimated Time per Respondent: 1.2741.

Estimated Total Reporting Burden Hours: 23,602.

Estimated Total Recordkeeping Burden Hours: 315.

Estimated Total Burden for Reporting and Recordkeeping: 23,917.

Dated: March 8, 2011.
Julia Paradis,
Administrator, Food and Nutrition Service.

[FR Doc. 2011-6120 Filed 3-15-11; 8:45 am]

BILLING CODE 3410-30-P